DEPARTMENT OF THE INTERIOR

National Park Service

Final Environmental Impact Statement for Fire Management Plan; Golden Gate National Recreation Area, Muir Woods National Monument and Fort Point National Historic Site; Marin, San Francisco and San Mateo Counties, CA; Notice of Availability

Summary: Pursuant to section 102(2)(C) of the National Environmental Policy Act of 1969 (Pub. L. 91-190, 42 U.S.C. 4321-4347, January 1, 1970, as amended), and the Council on Environmental Quality Regulations (40 CFR part 1500-1508), the National Park Service, Department of the Interior, has prepared a Final Environmental Impact Statement for an new Fire Management Plan for Golden Gate National Recreation Area (GGNRA), Muir Woods National Monument and Fort Point National Historic Site—the latter two parks being under the administration of GGNRA. The Fire Management Plan Final Environmental Impact Statement (FEIS) evaluates fire management options for approximately 15,000 acres of GGNRA's nearly 75,000 legislated acres in Marin, San Francisco and San Mateo counties. The Fire Management Plan FEIS describes and analyzes three alternative strategies to replace the 1993 GGNRA Fire Management Plan with a plan that conforms to current Federal wildland fire management policy and National Park Service (NPS) management policies. Potential impacts and mitigating measures are described for the two action alternatives and a no action alternative. The alternative selected after this conservation planning and environmental impact analysis process will serve as a blueprint for fire management actions for the GGNRA over the next 10-15 years.

The FEIS fire planning and analysis area does not include the following lands:

1. The northern lands of GGNRA, comprising 18,000 acres north of the Bolinas-Fairfax Road in western Marin County, which are managed by Point Reyes National Seashore under an agreement between the two park units. Fire management responsibilities for these northern lands are addressed in the Point Reyes FMP (approved October 29, 2004).

2. Lands within the jurisdictional boundary of GGNRA that are not directly managed by the National Park Service. This includes the San Francisco Watershed, managed by the San Francisco Public Utilities Commission (with overlays of NPS easements) and the interior portion of the Presidio of San Francisco which is managed by the Presidio Trust, a Federal corporation. The coastal portion of the Presidio managed by the GGNRA, is included in the planning area.

In addition to lands currently under the management of the NPS, the subject FMP planning area includes those lands within the legislative boundary that may pass to NPS management in the near future. These areas, all in San Mateo County, include Cattle Hill and Pedro Point.

Purpose and Need for Federal Action: The 1993 FMP for GGNRA focused primarily on natural resource management issues and needs to be updated to more fully address cultural resource concerns, provide guidance for parklands acquired since 1993, and provide more guidance on effectively reducing fire risk along wildland urban interface (WUI) areas in the park. The new FMP is needed to reflect the emphasis of recent years on fuel reduction projects that effectively reduce wildfire risk to natural and cultural park resources and to private property along the WUI zone. In addition, the new FMP will address the role that fire management actions can have on ecosystem changes to parklands such as the spread of more flammable, invasive, nonnative plant species, dense second-growth forests with high fuel loads, conversion of plant community type in the absence of wildland fire, alteration of important cultural landscapes through overgrowth of vegetation, and the decline of certain fire-adapted plant species.

The FMP will provide a framework for all fire management activities in a manner responsive to natural and cultural resource objectives while reducing risks to developed facilities and adjacent communities and providing for public and staff safety. The purposes of this conservation planning and environmental impact analysis process are:

• To prepare a new FMP that is consistent with Federal Wildland Fire Management Policy and conforms to agency guidelines for fire management plans and programs; and

• To help achieve resource management objectives consistent with the park's cultural resource, natural resource, and land management plans, and to be responsive to safety considerations for park visitors, employees, and resources.

Proposed Fire Management Plan. Alternative C is the alternative preferred by the NPS and has also been determined by the NPS to be the “environmentally preferred” alternative. The three FMP EIS alternatives differ in the number of acres proposed for treatment through prescribed burning or mechanical treatments in the park interior versus the outer parklands that border residential development in the WUI zone. Each alternative has an upper limit set on the number of acres that could be treated annually as shown in Table 1. Alternative C allows for the greatest number of acres to be treated on an annual basis to achieve fire management and resource objectives through the use of a broad range of fire management strategies. Mechanical treatment and prescribed burning would be used throughout the park as a means to reduce fuel loading and achieve resource enhancement goals. Mechanical treatments, complemented by prescribed fire, would be employed to assist with restoration and maintenance of the park's natural and cultural resources. An expanded research program would examine the role of fire and mechanical treatments in enhancing natural resources, reducing fuel loading, and specific impacts of fire on key natural resources; research would also be used to adaptively guide the fire management program and help to maximize the benefits to park resources. Project planning will favor projects that integrate natural and cultural resource goals and objectives into the design and implementation of fuel reduction projects.

The three alternatives share many common elements that do not vary from one alternative to the next. For example, the fire management approach for Muir Woods National Monument, using prescribed fire and mechanical fuel reduction to reduce invasive species, reduce fuel loading and restore the role of fire in the redwood old growth coast redwood forest. Other actions common include participation in the WUI Initiative funding program for outside agencies and groups, continued maintenance of the park's fire roads, trails, and defensible space around park buildings, suppression of unplanned ignitions, provision to the public of fire information and educational materials, monitoring of the effects of fire management actions, construction of a new fire cache structure and fuel reduction treatments for San Francisco parklands.

Alternative A, Continued Fuel Reduction for Public Safety and Limited Resource Enhancement, is the No Action alternative required by NEPA. Alternative A is based on the 1993 GGNRA FMP updated to include the current planning area and current national fire management policies. The focus of the 1993 FMP program is on vegetation management through the application of prescribed fire to perpetuate fire-dependent natural systems. In recent practice, many fire management actions have been mechanical fuel reduction projects (e.g., mowing, cutting to remove non-native shrubs and trees, and selective thinning in forested stands) funded through the Wildland Urban Interface Program. This alternative would rely on the continued implementation of the 1993 FMP supplemented by mechanical fuel reduction projects in the WUI zone and suppression of all wildfires. Current research projects would continue and would focus on the role of fire to enhance natural resources and the effects of fire on key natural resources to determine the effectiveness of various fuel treatments.

Alternative B, Hazard Reduction and Restricted Fire Use for Research and Resource Enhancement, emphasizes the use of mechanical methods to reduce fuel loading in areas with the highest risks. Compared to Alternative A, Alternative B would increase the number of acres mechanically treated each year, with a focus on the reduction of high fuel loads in the WUI area. Limited use of prescribed fire could occur for research purposes within the park interior. Research projects would examine the role of fire to enhance natural resources and the effects of fire on key natural resources to determine the effectiveness of various fuel treatments. Natural and cultural resource goals and objectives would be integrated into the design and implementation of fuel reduction projects.

Planning Background: A notice of availability for the Draft EIS was published in the Federal Register (March 21, 2005) and the document made available for public review and comment through May 27, 2005 (extended from the original May 17, 2005 date to provide additional time for review). The park also announced availability of the DEIS through a mass mailing and posting on the park's Web site.

Table 1.—Summary of Alternatives by Annual Acres Treated and Treatment Type
Treatment type | County | Alternative A ¹ | Alternative B | Alternative C
Mechanical Treatment ² | Marin | 75 | 180 | 225
| San Francisco | 5 | 10 | 10
| San Mateo | 20 | 40 | 40
| Total | 100 | 230 | 275
Prescribed Fire | Marin | 100 | 120 | 285
| San Francisco | <1 | <1 | <1
| San Mateo | 10 | 0 | 35
| Total | 110 | 120 | 320
Source: GGNRA Fire Management Office, 2004.
¹ Estimated based upon current practice; the 1993 FMP did not specify number of acres per year per treatment type.
² Includes fuel reduction by methods such as mowing, cutting, short-term grazing, or selective thinning.

The DEIS was made available at park headquarters, visitor centers, and public libraries in the area. Two public presentations were made on the DEIS; the first at a City of Pacifica regularly scheduled City Council meeting on April 11, 2005 and the second at the regularly scheduled, bi-monthly GGNRA public meeting on April 19, 2005. The public was encouraged to submit comments on the DEIS via email, fax, or regular mail.

The NPS received twelve written comment letters and consultation letters with findings from the State Historic Preservation Officer on FMP conformance to the National Historic Preservation Act and from the U.S. Fish and Wildlife Service as required under the Endangered Species Act. The Environmental Protection Agency provides the most comments, primarily focused on air quality and related matters. The letters and responses are included in appendices of the FEIS. The major issues raised during the public comment period included: Smoke management, clarification of the text on conformance with air quality regulations and the State Implementation Plan, herbicide use, structure of the EIS, protection of riparian and wetland areas, range of alternatives addressed, effects on Monarch butterfly habitat, and the need and benefits from interagency cooperation.

Addresses: Copies of the FMP FEIS may be obtained from the Superintendent, Golden Gate National Recreation Area, Fort Mason, Building 201, San Francisco, CA 94123, Attn: Fire Management Plan, or by email request to: goga_fire@nps.gov (please mark the email subject line “FMP FEIS”). Printed copies of the FMP FEIS or a copy on the FEIS on CD will be directly distributed to those who received the DEIS in these formats, and to any others who request it. The FMP FEIS will be available at park headquarters, park visitor centers, and at local and regional libraries. The complete FMP FEIS will be posted on the park's Web site at http://parkplanning.nps.gov/goga under the heading for GOGA FMP FEIS.

Decision: As a delegated EIS, the Regional Director of the Pacific West Region is responsible for the final decision on the selected FMP alternative. A Record of Decision, documenting the decision process in selecting the final FMP, may be considered by the Regional Director not sooner than 30 days following the publication by the Environmental Protection Agency of their notice of filing of the FMP FEIS in the Federal Register. Following approval of the FMP FEIS, the official responsible for implementing the new FMP will be the Superintendent of Golden Gate National Recreation Area.

Dated: November 3, 2005.
George J. Turnbull,
Acting Regional Director, Pacific West Region.

[FR Doc. E5-7898 Filed 12-27-05; 8:45 am]

BILLING CODE 4312-FN-P